ENVIRONMENTAL PROTECTION AGENCY

40 CFR Part 52

[EPA-R08-OAR-2007-1036; FRL-9266-2]

Approval and Promulgation of State Implementation Plans; State of Colorado; Interstate Transport of Pollution Revisions for the 1997 8-Hour Ozone and 1997 PM2.5 NAAQS: “Interference With Visibility” Requirement

AGENCY: Environmental Protection Agency (EPA).

ACTION: Proposed rule.

SUMMARY: EPA is proposing partial approval of the Colorado interstate transport State Implementation Plan (SIP) revisions, submitted on March 31, 2010, addressing the requirements of Clean Air Act (CAA) section 110(a)(2)(D)(i)(II) for the 1997 ozone National Ambient Air Quality Standards (NAAQS), and the requirements of CAA section 110(a)(2)(D)(i)(I) and (II) for the 1997 PM2.5 NAAQS. Specifically, in this Federal Register action EPA proposes full approval of those portions of the Colorado March 31, 2010 submission that address the section 110(a)(2)(D)(i)(II) requirement prohibiting a State's emissions from interfering with any other State's required measures to protect visibility for the 1997 ozone and PM2.5 NAAQS. This action is being taken under section 110 of the CAA.

DATES: Comments must be received on or before March 16, 2011.

ADDRESSES: Submit your comments, identified by Docket ID No. EPA-R08-OAR-2007-1036, by one of the following methods:

• http://www.regulations.gov. Follow the on-line instructions for submitting comments.

• E-mail: dygowski.laurel @epa.gov.

• Fax: (303) 312-6064 (please alert the individual listed in the FOR FURTHER INFORMATION CONTACT if you are faxing comments).

• Mail: Callie Videtich, Director, Air Program, Environmental Protection Agency (EPA), Region 8, Mailcode 8P-AR, 1595 Wynkoop Street, Denver, Colorado 80202-1129.

• Hand Delivery: Callie Videtich, Director, Air Program, Environmental Protection Agency (EPA), Region 8, Mailcode 8P-AR, 1595 Wynkoop, Denver, Colorado 80202-1129. Such deliveries are only accepted Monday through Friday, 8 a.m. to 4:30 p.m., excluding Federal holidays. Special arrangements should be made for deliveries of boxed information.

Instructions: Direct your comments to Docket ID No. EPA-R08-OAR-2007-1036. EPA's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov or e-mail. The http://www.regulations.gov Web site is an “anonymous access” system, which means EPA will not know your identity or contact information unless you provide it in the body of your comment. If you send an e-mail comment directly to EPA, without going through http://www.regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional instructions on submitting comments, go to Section I. General Information of the SUPPLEMENTARY INFORMATION section of this document.

Docket: All documents in the docket are listed in the http://www.regulations.gov index. Although listed in the index, some information is not publicly available, e.g., CBI or other information whose disclosure is restricted by statute. Certain other material, such as copyrighted material, will be publicly available only in hard copy. Publicly-available docket materials are available either electronically in http://www.regulations.gov or in hard copy at the Air Program, Environmental Protection Agency (EPA), Region 8, Mailcode 8P-AR, 1595 Wynkoop, Denver, Colorado 80202-1129. EPA requests that if at all possible, you contact the individual listed in the FOR FURTHER INFORMATION CONTACT section to view the hard copy of the docket. You may view the hard copy of the docket Monday through Friday, 8 a.m. to 4 p.m., excluding Federal holidays.

FOR FURTHER INFORMATION CONTACT: Laurel Dygowski, Air Program, U.S. Environmental Protection Agency, Region 8, Mailcode 8P-AR, 1595 Wynkoop, Denver, Colorado 80202-1129, (303) 312-6144, dygowski.laurel@epa.gov.

SUPPLEMENTARY INFORMATION:

Definitions

For the purpose of this document, we are giving meaning to certain words or initials as follows:

(i) The words or initials Act or CAA mean or refer to the Clean Air Act, unless the context indicates otherwise.

(ii) The words EPA, we, us or our mean or refer to the United States Environmental Protection Agency.

(iii) The initials SIP mean or refer to State Implementation Plan.

(iv) The words Colorado and State mean the State of Colorado.

Table of Contents

I. General Information

What should I consider as I prepare my comments for EPA?

II. Background Information

III. What action is EPA proposing?

IV. What is the State process to submit these materials to EPA?

V. EPA's Review and Technical Information

VI. Proposed Action

VII. Statutory and Executive Order Reviews

I. General Information

What should I consider as I prepare my comments for EPA?

1. Submitting CBI. Do not submit CBI to EPA through http://www.regulations.gov or e-mail. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for Preparing Your Comments. When submitting comments, remember to:

a. Identify the rulemaking by docket number and other identifying information (subject heading, Federal Register date and page number).

b. Follow directions—The agency may ask you to respond to specific questions or organize comments by referencing a Code of Federal Regulations (CFR) part or section number.

c. Explain why you agree or disagree; suggest alternatives and substitute language for your requested changes.

d. Describe any assumptions and provide any technical information and/or data that you used.

e. If you estimate potential costs or burdens, explain how you arrived at your estimate in sufficient detail to allow for it to be reproduced.

f. Provide specific examples to illustrate your concerns, and suggest alternatives.

g. Explain your views as clearly as possible, avoiding the use of profanity or personal threats.

h. Make sure to submit your comments by the comment period deadline identified.

II. Background Information

On July 18, 1997, EPA promulgated new NAAQS for 8-hour ozone and for fine particulate matter (PM2.5). This action is being taken in response to the promulgation of the 1997 8-hour ozone and PM2.5 NAAQS. This action does not address the requirements for the 2006 PM2.5, or the 2008 8-hour ozone NAAQS; those standards will be addressed in later actions.

Section 110(a)(1) of the CAA requires States to submit SIPs to address a new or revised NAAQS within 3 years after promulgation of such standards, or within such shorter period as EPA may prescribe. Section 110(a)(2) lists the elements that such new SIPs must address, as applicable, including section 110(a)(2)(D)(i), which pertains to interstate transport of certain emissions.

Section 110(a)(2)(D)(i) of the CAA requires that a State's SIP must contain adequate provisions prohibiting any source or other type of emissions activity within the State from emitting any air pollutant in amounts which will: (1) Contribute significantly to nonattainment of the NAAQS in any other State; (2) interfere with maintenance of the NAAQS by any other State; (3) interfere with any other State's required measures to prevent significant deterioration of air quality; or (4) interfere with any other State's required measures to protect visibility.

On June 11, 2008, the State of Colorado submitted to EPA an Interstate Transport SIP addressing all four elements of the interstate transport requirements of CAA section 110(a)(2)(D)(i) for the 1997 ozone and PM2.5 NAAQS. In response to EPA's concerns regarding the June 11, 2008 submission, the State later submitted two superceding interstate transport SIP revisions: (a) A June 18, 2009 submission addressing the requirements of elements (1) and (2) of section 110(a)(2)(D)(i) for the 1997 ozone NAAQS; and (b) a March 31, 2010 submission addressing the requirements of elements (3) and (4) for the 1997 8-hour ozone NAAQS and of elements (1) through (4) for the 1997 PM2.5 NAAQS. As noted earlier, in this rulemaking EPA is evaluating only the Colorado SIP revisions of the March 31, 2010 submission that address the requirements of element (4), prohibiting sources in Colorado from emitting pollutants from interfering with any other state's measures to protect visibility, for the 1997 ozone and PM2.5 NAAQS. EPA has already taken final action on elements (1) and (2) for ozone (see 75 FR 31306 and 75 FR 71029, respectively). EPA will be taking action on elements (1)-(3) for PM2.5 and element (3) for ozone in a separate action.

III. What action is EPA proposing?

EPA is proposing approval of the sections of the Colorado Interstate Transport SIP submitted March 31, 2010 that address the section 110(a)(2)(D)(i)(II) “interference with visibility protection” requirement for the 1997 ozone and PM2.5 NAAQS. On January 13, 2010, the Colorado Air Quality Control Commission (AQCC) adopted interstate transport SIP revisions addressing the requirements of CAA section 110(a)(2)(D)(i)(II) for the 1997 ozone NAAQS, and the requirements of CAA section 110(a)(2)(D)(i)(I) and (II) for the 1997 PM2.5 NAAQS. Colorado submitted these revisions to EPA on March 31, 2010. In this Federal Register action EPA is proposing to approve the sections of the March 31, 2010 submissions that address element (4), “interference with visibility protection,” of section 110(a)(2)(D)(i).

IV. What is the State process to submit these materials to EPA?

Section 110(k) of the CAA addresses EPA's rulemaking action on SIP submissions by States. The CAA requires States to observe certain procedural requirements in developing SIP revisions for submittal to EPA. Section 110(a)(2) of the CAA requires that each SIP revision be adopted after reasonable notice and public hearing. This must occur prior to the revision being submitted by a State to EPA.

The Colorado AQCC held a public hearing in December 2009 for the interstate transport SIP revision: “State of Colorado Implementation Plan to Meet the Requirements of the Clean Air Act Section 110(a)(2)(d)(i)(I) and (II)—Regarding Interstate Transport for the 1997 8-Hour Ozone and PM2.5 NAAQS.” The AQCC adopted this revision on January 13, 2010, and the State submitted it to EPA on March 31, 2010.

EPA has reviewed the submittal from the State of Colorado and has determined that the State met the requirements for reasonable notice and public hearing under section 110(a)(2) of the CAA.

V. EPA's Review and Technical Information

The interstate transport provisions at CAA section 110(a)(2)(D)(i), also referred to as the “good neighbor” provisions, require that each SIP contain adequate provisions prohibiting emissions that adversely affect any other State's air quality through interstate transport of air pollutants. As discussed in the Background Information section of this notice, a SIP must contain provisions that satisfy the four elements of section 110(a)(2)(D)(i). This action only addresses element (4), or the “interference with visibility protection” requirement, for the 1997 ozone and PM2.5 NAAQS. On August 15, 2006, EPA issued guidance (2006 Guidance) ¹ outlining the Agency's phased approach to visibility protection: The 1980 requirements of the Reasonably Attributable Visibility Impairment (RAVI) program, that addressed visibility impairment caused by one or a small number of sources, and the 1999 Regional Haze requirements addressing visibility impairment due to emission of air pollutants from numerous sources located over a wide geographical area.

¹ “Guidance for State Implementation Plan (SIP) Submissions to Meet Current Outstanding Obligations Under Section 110(a)(2)(D)(i) for the 8-Hour Ozone and PM2.5 National Ambient Air Quality Standards” August 15, 2006.

The 2006 Guidance further explains that since EPA had not determined at that point in time that emissions from any States interfered with any other States' measures addressing RAVI, States could satisfy this portion of the “interference with visibility protection” requirement by certifying that none of their sources emitted pollutants interfering with other States' implementation plan measures to protect visibility under the 1980 regulations.² The Colorado Interstate Transport submission of March 31, 2010 outlines the periodic update of the State RAVI SIP and verifies that “no State or Federal Land Manager has identified Class I area impairment attributed to a Colorado source or identified a Colorado source that interferes with efforts to improve visibility.” ³ Consistent with EPA's 2006 Guidance, the Colorado SIP verifies that there are no sources in the State that emit pollutants interfering with any other State's measures to protect visibility through their RAVI SIPs.

² Id.

³ Colorado March 31, 2010 SIP submission, at 23.

With respect to the 1999 Regional Haze provisions (see 64 FR 35714) addressing visibility impairment due to emission of air pollutants from numerous sources located over a wide geographical area, the 2006 Guidance indicated that States could satisfy the interference with visibility protection requirement through their EPA-approved Regional Haze (RH) SIPs. The 2006 Guidance did not prohibit States from satisfying element (4) by something other than an EPA-approved RH SIP. The State submitted a partial RH SIP to EPA on June 11, 2008, and revisions to the 2008 submittal on June 18, 2009. In the fall of 2010, the State revised its entire RH SIP and will be submitting this SIP to EPA in 2011. Thus, at the time the State submitted the March 13, 2010 Interstate Transport SIP, EPA had not approved a RH SIP for Colorado.

The State of Colorado has elected to satisfy the element (4) requirement of the good neighbor provisions by providing a demonstration in its March 13, 2010 Interstate Transport SIP submittal that it does not interfere with other State's measures to protect visibility through their RH SIP. The State provides an analysis in its SIP that begins with an inventory of current control measures (some approved only at the State level, some that are Federally enforceable, and some that are Federal programs) that reduce visibility impairing pollutants. Some examples of measures the State has relied on in making its demonstration that are Federally enforceable or are Federal programs include: (1) Regulation Number 1—Emission Controls for Particulates, Smoke, Carbon Monoxide and Sulfur Oxides; (2) parts of Regulation Number 3—Stationary Source Permitting and Air pollutant Emission Notice Requirements; and (3) Federal mobile source tailpipe exhaust programs. The State also included some reductions attributable to its RH SIP, which have not been approved by EPA.

The State used emission inventory information and modeling provided by the Western Regional Air Partnership (WRAP) to quantify the visibility impacts from Colorado sources on Class I areas outside of the State. Under the RH Rule, States must establish reasonable progress goals which provide for an improvement in visibility for the most impaired, or worst days, and no degradation on the best days (see 40 CFR 51.308(d)(1)). The State analyzed its projected 2018 impacts on the worst days on surrounding Class I areas in Arizona, Arkansas, Missouri, New Mexico, Oklahoma, South Dakota, Utah, and Wyoming. The modeling the State used for this analysis includes emission reductions for RH that are not Federally enforceable. For nitrates, the most impacted areas were Canyonlands National Park in Utah and Bandelier National Monument in New Mexico. Colorado's modeled contribution to nitrate extinction was 6.9% and 5.1%, respectively. Total nitrates from all source regions are projected to comprise 9.5% of the extinction in Canyonlands and 6.6% of the extinction in Bandelier. Thus, Colorado's nitrate contribution to the overall extinction in 2018 is 0.3% at Bandelier (0.051 × 0.066) and 0.7% (0.069 × 0.095) at Canyonlands. For sulfates, the most impacted areas were also Canyonlands National Park and Bandelier National Monument. Colorado's modeled contribution to sulfate extinction was 2.3% and 1.2%, respectively. Total sulfates from all source regions are projected to comprise 15.5% of the extinction in Canyonlands and 14.8% of the extinction in Bandelier. Thus, Colorado's sulfate contribution to the overall extinction in 2018 is 0.3% (0.012 × 0.148) at Bandelier and 0.2% (0.023 × 0.155) at Canyonlands. Colorado's total impact from nitrates and sulfates combined at Bandelier and at Canyonlands is 0.5% and 1.0% of the overall extinction, respectively. EPA performed additional analysis (discussed below) to assess impacts to reasonable progress goals in Class I areas outside of the State.

Under CAA section 110(a)(2)(D), the measures relied on by Colorado to make a demonstration that it does not interfere with other States' measures to protect visibility in their RH SIP have to be approved by EPA as part of a SIP and made Federally enforceable. As mentioned above, the State's demonstration relies on potential RH SIP emission reductions that have not been approved by EPA. EPA conducted a weight of evidence analysis on Canyonlands National Park, the most impacted Class I area to determine Colorado's impact if non-Federally enforceable measures were not included in the demonstration. EPA's weight of evidence analysis includes a recalculation of the reasonable progress goal to reflect the addition of non-Federally enforceable measures, review of current and future year emission inventories, and an evaluation of the weighted emission potential (WEP) for sulfates and nitrates. The weighted emission potential information was obtained from technical work performed by the WRAP.⁴ (The complete weight of evidence analysis is included in the docket for this notice.)

⁴ The WRAP technical work, including modeling, was used by all western States as the basis for evaluating impacts on Class I areas and the need for controls.

EPA recalculated the reasonable progress goal to determine approximate changes to visibility impacts at Canyonlands due to emission increases. To account for measures that are not Federally enforceable, EPA increased the Colorado emission inventory 45,700 tons for sulfates and 5,200 tons for nitrates from the emission inventory used for Colorado in the WRAP 2018 reasonable progress modeling. To calculate the approximate visibility impact from this change, the following procedure was followed: (1) Recalculate the baseline haze index (2000-2004) using daily 20% worst case monitored species extinction from WRAP data; (2) recalculate 2018 predicted reasonable progress goal haze index by applying Class I area specific annual relative response factors (RRFs) provided by WRAP to the daily 20% worst case monitored for each pollutant; (3) assume that Colorado's relative contribution of nitrates and sulfates identified by WRAP tracer modeling for the 2018 base case is the same for the 2018 reasonable progress case; (4) rescale sulfate extinction and nitrate extinction in step 2 to account for Colorado emissions that are not Federally enforceable; and (5) recalculate the reasonable progress goals that would be expected. This method of approximating the change in the haze index, given in deciviews (dv),⁵ shows that the 2018 predicted reasonable progress goal would only increase from 10.77 dv to 10.80 dv.

⁵ A deciview is a measure of visibility impairment that directly relates to human perception. A higher deciview number indicates more perceptible visibility impairment.

EPA also analyzed WEP information developed by the WRAP. The WEP analysis was developed as a screening tool for States to decide which source regions have the potential to contribute to haze formation in Class I areas, based on annual emissions inventories, baseline period back trajectories, and source to Class I area distances. The WEP analyses also show that Colorado has a minimal impact on visibility at Canyonlands.

The RH Rule also requires States ensure no degradation of visibility on the best days. The WRAP modeling projects that visibility on the best days will not degrade in 2018 at any of the surrounding Class I areas. For example, modeling indicates that the visibility at Canyonlands on the best days is expected to improve from 3.8 dv to 3.5 dv. Accordingly, EPA finds that Colorado does not interfere with another States' ability to ensure no degradation of visibility on the best days.

Based on the information presented above, EPA concludes that Colorado does not interfere with Utah's measures to protect visibility at Canyonlands National Park. Since Colorado impacts Canyonlands more than any other out of State Class I area, Colorado's impacts on other Class I areas, including Bandelier, would be even less. EPA thus has determined that Colorado does not interfere with other States' measures to protect visibility in their RH SIP.

VI. Proposed Action

EPA is proposing partial approval of the March 31, 2010 Colorado Interstate Transport SIP revisions submission. Specifically, in this action EPA is proposing to approve subsections 3.1, 3.2 and 3.3, addressing the “interference with protection of visibility” requirement for the 1997 ozone NAAQS, and subsections 6.1, 6.2 and 6.3, addressing the “interference with protection of visibility” requirement for the 1997 PM2.5 NAAQS.

VII. Statutory and Executive Order Review

Under the Clean Air Act, the Administrator is required to approve a SIP submission that complies with the provisions of the Act and applicable Federal regulations. 42 U.S.C. 7410(k); 40 CFR 52.02(a). Thus, in reviewing SIP submissions, EPA's role is to approve State choices, provided that they meet the criteria of the Clean Air Act. Accordingly, this action merely approves State law as meeting Federal requirements and does not impose additional requirements beyond those imposed by State law. For that reason, this action:

• Is not a “significant regulatory action” subject to review by the Office of Management and Budget under Executive Order 12866 (58 FR 51735, October 4, 1993);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the Clean Air Act; and

• Does not provide EPA with the discretionary authority to address, as appropriate, disproportionate human health or environmental effects, using practicable and legally permissible methods, under Executive Order 12898 (59 FR 7629, February 16, 1994).

In addition, this rule does not have Tribal implications as specified by Executive Order 13175 (65 FR 67249, November 9, 2000), because the SIP is not approved to apply in Indian country located in the State, and EPA notes that it will not impose substantial direct costs on Tribal governments or preempt Tribal law.

List of Subjects in 40 CFR Part 52

Environmental protection, Air pollution control, Incorporation by reference, Intergovernmental relations, Nitrogen dioxide, Ozone, Particulate matter, Reporting and recordkeeping requirements, Volatile Organic Compounds.

Authority: 42 U.S.C. 7401 et seq.

Dated: February 3, 2011.
Carol Rushin,
Deputy Regional Administrator, Region 8.

[FR Doc. 2011-3280 Filed 2-11-11; 8:45 am]

BILLING CODE 6560-50-P